SMALL BUSINESS ADMINISTRATION

Small Business Development Center National Advisory Board; Public Meeting

The U.S. Small Business Administration, National Small Business Development Center Advisory Board will be hosting a public meeting on Thursday, June 23, 2005, starting at 4 p.m. The meeting will be held at the Illinois District Office, located at 500 West Madison Street, Suite 1250, Chicago, IL 60660. The meeting will review the Illinois SBDC Network, and discuss such matters that may be presented by members and the staff of the U.S. Small Business Administration or interested others.

Anyone wishing to make an oral presentation to the Board must contact Erika Fischer, Senior Program Analyst, U.S. Small Business Administration, Office of Small Business Development Centers, 409 3rd Street, SW., Washington, DC 20416, telephone (202) 205-7045; fax (202) 481-0681; e-mail: Erika.Fischer@sba.gov.

Matthew K. Becker,
Committee Management Officer.

[FR Doc. 05-11459 Filed 6-8-05; 8:45 am]

BILLING CODE 8025-01-P